SOCIAL SECURITY ADMINISTRATION

Privacy Act of 1974, as Amended; Minor Changes to a System of Records

AGENCY: Social Security Administration (SSA).

ACTION: Notice of minor changes to an existing system of records.

SUMMARY: In accordance with the Privacy Act (5 U.S.C. 552a(e)(4)), we are issuing public notice of our intent to make housekeeping changes to the system of records entitled, Recovery of Overpayments, Accounting and Reporting (ROAR) SSA/OTSO, 60-0094, to more accurately describe the records maintained in this system of records. The housekeeping changes make the Privacy Act notice of the ROAR system of records accurate and up to date. We invite public comment on this proposal.

DATES: This notice is effective upon publication.

ADDRESSES: Interested individuals may comment on this publication by writing to the Deputy Executive Director, Office of Public Disclosure, Office of the General Counsel, Social Security Administration, Room 3-A-6 Operations Building, 6401 Security Boulevard, Baltimore, Maryland 21235-6401. All comments received will be available for public inspection at the above address.

FOR FURTHER INFORMATION CONTACT: Contact Ms. Tracie Jennings, Social Insurance Specialist, Disclosure Policy Team, Office of Public Disclosure, Office of the General Counsel, Social Security Administration, Room 3-A-6 Operations Building, 6401 Security Boulevard, Baltimore, Maryland 21235-6401, telephone 410-965-2902, e-mail: tracie.jennings@ssa.gov.

SUPPLEMENTARY INFORMATION:

I. Minor Housekeeping Changes to the ROAR System of Records

The ROAR system of records is SSA's debt collection system for the recovery of program debts for Title II Retirement, Survivors, and Disability Insurance program debt, Title XVI Supplemental Security Income program debt recovered from Title II benefits, and Title XVIII health insurance program debt recovered from Title II benefits. The ROAR system of records also controls misuse funds cases, cases in which a former representative payee is asked to return conserved funds, and Civil Monetary Penalty cases. We are making the changes discussed below to make the Privacy Act notice of the ROAR system of records accurate and up to date. We have not made any substantive changes to the ROAR system of records.

A. Revision to Name of the ROAR System of Records

We are changing the current name of this system of records from Recovery of Overpayments, Accounting and Reporting System to Recovery of Overpayments, Accounting and Reporting System/Debt Management System (ROAR/DMS) SSA/OTSO. The new name of the system of records more accurately reflects the purposes for which the system of records was established.

B. Revision to the System Location Section of the ROAR/DMS Notice

The System location section of the ROAR/DMS notice currently states that all Social Security field offices maintain “lists of overpaid individuals” (i.e. individuals who owe SSA program debt). Such lists are no longer maintained in these offices and we have revised this section accordingly. We have also revised the address information for SSA Program Service Centers.

C. Revision to the Categories of Individuals Covered by the ROAR/DMS Notice

The ROAR/DMS system of records historically has always maintained information about representative payees when those payees have received excess benefits for the individuals for whom they serve as payees. This is not clear from the current description of the categories of individuals covered by the system of records. We have clarified the language in this section to state that such individuals are covered by the ROAR/DMS system of records.

D. Revision to the Purpose Section of the ROAR/DMS Notice

The ROAR/DMS system has always encompassed SSA's DMS, which is SSA's automated system for recording, classifying, and summarizing information on SSA's program debt collection activities, but this is not evident from the current description of the Purpose(s) section of the ROAR/DMS notice. Thus, we have revised the Purpose(s) section of the ROAR/DMS notice to more accurately describe SSA's program debt collection activities.

E. Revision to the Language in Routine Use #3 in the ROAR/DMS Notice

Routine use #3 in the ROAR/DMS Notice provides for disclosure of information to third party contacts to assist SSA in recovering program debts. The routine use currently cites examples of non-governmental and governmental entities to which SSA may disclose information for this purpose. We have revised the routine use to include reference to the Department of the Treasury as another example of a third party contact to which SSA may disclose information from the ROAR/DMS system of records for program debt collection purposes.

F. Revision to the System Manager Section of the ROAR/DMS Notice

We have revised the “System manager” section of the ROAR/DMS notice to denote that the system of records has co-managers; a manager for the ROAR portion of the system of records and a manager for the DMS portion of the system of records.

G. Revision of the Notification Procedure Section of the ROAR/DMS Notice

This section of the ROAR/DMS notice previously stated that an individual could find out if the ROAR/DMS system of records contained a record about him or her by contacting the appropriate processing center, the most convenient Social Security office, or writing to the system manager of the ROAR/DMS system of records. We have revised this section by stating that individuals can determine if the ROAR/DMS system of records contains a record about them by contacting the most convenient Social Security office or by writing to the system managers.

H. Revision to the Record Access Procedures Section of the ROAR/DMS Notice

We have revised the information in this section to state that individuals may access some information about their program debt via the Internet when SSA has authorized such access using a personal identification number and password.

I. Editorial/Grammatical Changes to the ROAR/DMS Notice

In addition to the changes discussed in items A-H above, we have made editorial and grammatical changes throughout the ROAR/DMS notice to make the notice accurate and up to date.

II. Effect of the Proposed Housekeeping Changes to the ROAR/DMS System of Records

When operating the ROAR/DMS system of records, we adhere to all applicable statutory requirements, including those under the Social Security Act and the Privacy Act, in carrying out our program debt collection responsibilities. Therefore, we do not anticipate that the housekeeping changes will have an unwarranted adverse effect on the rights of individuals.

Dated: August 12, 2005.
Jo Anne B. Barnhart,
Commissioner.

SYSTEM NUMBER:

60-0094.

System name:

Recovery of Overpayments, Accounting and Reporting /Debt Management System (ROAR/DMS) SSA/OTSO.

Security classification:

None.

System location:

Social Security Administration, Office of Telecommunications and Systems Operations, 6401 Security Boulevard, Baltimore, MD 21235.

Program Service Centers (Contact the system manager(s) for PSC address information).

Social Security Administration, Office of Central Operations, 1500 Woodlawn Drive, Baltimore, MD 21241.

Categories of individuals covered by the system:

Social Security beneficiaries, former beneficiaries, and representative payees who may have received excess benefits; persons holding conserved (accumulated) funds received on behalf of a Social Security beneficiary; and persons who received Social Security payments in error or on behalf of a beneficiary and are suspected to have misused those payments.

Categories of records in the system:

Identifying characteristics of each program debt or instance of misused or conserved funds (e.g., name, Social Security number (SSN) and address of the individual(s) involved, recovery efforts made and the date of each action, and planned future actions).

Authority for maintenance of the system:

Section 204(a) of the Social Security Act (42 U.S.C. 404(a)).

Purpose(s):

The ROAR/DMS system of records controls the recovery and collection activity of:

• Retirement, Survivors and Disability Insurance (RSDI), Supplemental Security Income (SSI), and Health Insurance (HI) program debt when refund is requested or adjustment is proposed;

• SSI, and HI program debt recovered from RSDI accounts;

• Misused funds cases;

• Conserved funds cases;

• Civil Monetary Penalty cases; and

• Program debts created by fraudulent acts.

The ROAR/DMS system of records encompasses SSA's automated system for recording, classifying, and summarizing information on SSA's program debt collection responsibilities. The users of this system are employees of the Social Security field offices, as well as selected personnel of SSA's 8 Processing Centers, Regional and Area offices, and Teleservice Centers. The data are used to maintain control of program debt, and misused or conserved funds, from the time of discovery to the final resolution, and for the proper adjustments of payment and refund amounts. The DMS front-end screens, object programs, and other processes are used to create transaction records that are used to establish and update the ROAR/DMS system of records, update the Master Beneficiary Record, and update the Supplemental Security Income Record and Special Veterans Benefits System. These transaction record data produce accounting and statistical reports at specified intervals.

Routine uses of records maintained in the system, including categories of users and the purposes of such uses:

Disclosure may be made for routine uses as indicated below. However, disclosure of any information constituting “returns or return information” within the scope of the Internal Revenue Code will not be disclosed unless disclosure is authorized by that statute.

(1) To a congressional office in response to an inquiry from that office made at the request of the subject of a record.

(2) To the Office of the President for the purpose of responding to an individual pursuant to an inquiry received from that individual or a third party on his/her behalf.

(3) To third party contacts such as private collection agencies and credit reporting agencies under contract with SSA and other agencies, including the Veterans Administration, the Armed Forces, the Department of the Treasury, and State motor vehicle agencies, for the purpose of their assisting SSA in recovering program debt.

(4) Information may be disclosed to contractors and other Federal agencies, as necessary, for the purpose of assisting SSA in the efficient administration of its programs. We contemplate disclosing information under this routine use only in situations in which SSA may enter a contractual or similar agreement with a third party to assist in accomplishing an agency function relating to this system of records.

(5) Non-tax return information which is not restricted from disclosure by Federal law may be disclosed to the General Services Administration (GSA) and the National Archives and Records Administration (NARA) for the purpose of conducting records management studies with respect to their duties and responsibilities under 44 U.S.C. 2904 and 2906, as amended by NARA Act of 1984.

(6) To the Department of Justice (DOJ), a court or other tribunal, or another party before such tribunal when:

(a) SSA, or any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components, is a party to litigation or has an interest in such litigation, and SSA determines that the use of such records by DOJ, the court or other tribunal is relevant and necessary to the litigation, provided, however, that in each case, SSA determines that such disclosure is compatible with the purpose for which the records were collected.

Wage and other information which are subject to the disclosure provisions of the IRC (26 U.S.C. 6103) will not be disclosed under this routine use unless disclosure is expressly permitted by the IRC.

(7) To student volunteers and other workers, who technically do not have the status of Federal employees, when they are performing work for SSA as authorized by law, and they need access to personally identifiable information in SSA records in order to perform their assigned Agency functions.

(8) To employers to assist SSA in the collection of debts owed by former beneficiaries and representative payees of Social Security payments who received an overpayment and owe a delinquent debt to the SSA. Disclosure under this routine use is authorized under the Debt Collection Improvement Act of 1996 (Pub. L. 104-134) and implemented through administrative wage garnishment provisions of this Act (31 U.S.C. 3720D).

Disclosure to Consumer Reporting Agencies:

Disclosure pursuant to 5 U.S.C. 552a(b)(12) may be made to consumer reporting agencies as defined in the Fair Credit Reporting Act (15 U.S.C. 1681a(f)) or the Federal Claims Collection Act of 1966 as amended (31 U.S.C. 3701, et seq.) or the Social Security Domestic Employment Reform Act of 1994, Pub. L. 103-387, 42 U.S.C. 404(f). The purpose of this disclosure is to aid in the collection of outstanding program debts owed to the Federal government, typically, to provide an incentive for debtors to repay delinquent Federal government program debts by making these part of their credit records. Disclosure of records is limited to the individual's name, address, SSN, and other information necessary to establish the individual's identity; the amount, status, and history of the claim and the agency or program under which the claim arose. The disclosure will be made only after the procedural requirements of 31 U.S.C. 3711(e) have been followed.

Policies and practices for storing, retrieving, accessing, retaining and disposing of records in the system:

Storage:

Records are, or have been, maintained in magnetic cartridges, microfiche and paper form.

Retrievability:

Records are retrieved by SSN.

Safeguards:

System security for automated records has been established in accordance with the Systems Security Handbook. This includes maintaining automated records in a secured building, the SSA National Computer Center, and limiting access to the building to employees who have a need to enter in the performance of their official duties. Paper and other non-ADP records are protected through standard security measures (e.g., maintenance of the records in buildings which are manned by armed guards).

Retention and disposal:

Magnetic cartridges are updated daily and retained for 75 days. The magnetic cartridges produced in the last operation of the month are retained in security storage for a period of 75 days, after which the tapes are erased and returned to stock. The microfiche records are normally updated monthly, retained for 3 years after the month they are produced, and then destroyed by application of heat.

System manager(s) and address:

Director, Office of Retirement and Survivors Insurance System, Division of Title II Payments and Accounting, Social Security Administration, 6401 Security Boulevard, Baltimore, Maryland, 21235, is the system manager for ROAR.

Director, Office of Financial Policy and Systems Design, Social Security Administration, 6401 Security Boulevard, Baltimore, Maryland, 21235, is the system manager for DMS.

Notification procedure:

An individual can determine if this system contains a record about him/her by contacting the most convenient Social Security field office and providing his/her name, SSN or other information that may be in the system of records that will identify him/her. An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record access procedures:

Same as notification procedures. Also, requesters should reasonably specify the record contents they are seeking. An individual may also have access to certain program debt management data via Internet queries when he or she is authorized by SSA to conduct business transactions electronically using a personal identification number (PIN) and password. Using a PIN and password individuals may obtain information such as the reason for the program debt, the amount owed on the debt, how much has been withheld from the last check to cover the debt, and the same information about their next check. These procedures are in accordance with SSA Regulations (20 CFR 401.40(c)).

Contesting record procedures:

Same as notification procedures. Requesters should also reasonably identify the record, specify the information they are contesting and state the corrective action sought, and the reasons for the correction, with supporting justification showing how the record is untimely, incomplete, inaccurate or irrelevant. These procedures are in accordance with SSA Regulations (20 CFR 401.65(a)).

Record source categories:

The information for the computer files is received directly from beneficiaries, from Social Security field offices, and as the result of earnings enforcement operations. The paper listings are updated as a result of the computer operations.

Systems exempted from certain provisions of the Privacy Act:

None.

[FR Doc. 05-16633 Filed 8-22-05; 8:45 am]

BILLING CODE 4191-02-P